DEPARTMENT OF DEFENSE

Office of the Secretary

[Docket No. DoD-2008-HA-0139]

Submission for OMB Review; Comment Request

ACTION: Notice.

The Department of Defense has submitted to OMB for clearance, the following proposal for collection of information under the provisions of the Paperwork Reduction Act (44 U.S.C. Chapter 35).

DATES: Consideration will be given to all comments received by May 31, 2012.

Title and OMB Number: Active Duty Dental Program Claim Form; OMB Control Number 0720-TBD.

Type of Request: New.

Number of Respondents: 59,000.

Responses per Respondent: 3.

Annual Responses: 177,000.

Average Burden per Response: 5 minutes.

Annual Burden Hours: 14,750 hours.

Needs and Uses: The information collection requirement is necessary to obtain and record the dental readiness of Service Members using the Active Duty Dental Program and at the same time submit the claim for the dental procedures provided so that claims can be processed and reimbursement made to the provider. Many of these Service Members are not located near a military dental treatment facility and receive their dental care in the private sector. The new form is needed to update the dental readiness of all Service Members so that they can maintain worldwide deployment status and reduces paperwork by combining the dental claim and dental readiness into one form.

Affected Public: Businesses or other for-profit.

Frequency: On occasion.

Respondent's Obligation: Voluntary.

OMB Desk Officer: Mr. John Kraemer.

Written comments and recommendations on the proposed information collection should be sent to Mr. Kraemer at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: February 15, 2012.
Patricia L. Toppings,
OSD Federal Register Liaison Officer, Department of Defense.

[FR Doc. 2012-10398 Filed 4-30-12; 8:45 am]

BILLING CODE 5001-06-P